DEPARTMENT OF COMMERCE

National Oceanic and Atmospheric Administration

50 CFR Part 648

[Docket No. 180209147-8509-02; RTID 0648-XX039]

Fisheries of the Northeastern United States; Small-Mesh Multispecies Fishery; Inseason Adjustment to the Southern Red Hake Possession Limit

AGENCY: National Marine Fisheries Service (NMFS), National Oceanic and Atmospheric Administration (NOAA), Commerce.

ACTION: Temporary rule; inseason adjustment.

SUMMARY: NMFS announces that the commercial per-trip possession limit for southern red hake has been reduced for the remainder of the 2019 fishing year. Regulations governing the small-mesh multispecies fishery require this action to prevent the southern red hake total allowable landing limit from being exceeded. This announcement informs the public of the reduced southern red hake possession limit.

DATES: Effective February 3, 2020, through April 30, 2020.

FOR FURTHER INFORMATION CONTACT: Laura Hansen, Fishery Management Specialist, (978) 281-9225.

SUPPLEMENTARY INFORMATION: Regulations governing the red hake fishery are found at 50 CFR part 648. The small-mesh multispecies fishery is managed primarily through a series of exemptions from the Northeast Multispecies Fisheries Management Plan. The regulations describing the process to adjust inseason commercial possession limits of southern red hake are described in §§ 648.86(d)(4) and 648.90(b)(5). These regulations require the NMFS Regional Administrator, Greater Atlantic Region, to reduce the southern red hake per-trip possession limit from 5,000 lb (2,268 kg) to the incidental limit of 400 lb (181 kg) when landings are projected to reach or exceed 90 percent of the total allowable landings (TAL), unless such a reduction is expected to prevent the TAL from being reached. The final rule implementing the small-mesh multispecies specifications for 2018-2020 (83 FR 27713; June 14, 2018) set the southern red hake inseason adjustment threshold for the 2019 fishing year as 605,169 lb (274,500 kg); 90 percent of the southern red hake TAL for the year.

Based on commercial landings data reported through January 14, 2020, the southern red hake fishery is projected to reach 90 percent of the TAL on or around February 2, 2020. We do not anticipate that this reduced possession limit will prevent the TAL from being achieved. Therefore, effective February 3, 2020, no person may possess on board or land more than 400 lb (181 kg) of southern red hake per trip for the remainder of the fishing year, through April 30, 2020.

Classification

This action is required by 50 CFR part 648 and is exempt from review under Executive Order 12866.

The Assistant Administrator for Fisheries, NOAA, finds good cause under 5 U.S.C. 553(b)(B) to waive prior notice and the opportunity for public comment because it would be contrary to the public interest. This action reduces the per-trip possession limit for southern red hake to the incidental limit of 400 lb (181 kg) until April 30, 2020, under current small-mesh multispecies fishery regulations. The regulations at § 648.86(d) require such action to ensure that commercial small-mesh multispecies vessels do not exceed the TAL set for the southern red hake stock. While we do not project that the southern red hake TAL will be exceeded, a delay in implementation of this reduction to solicit prior public comment could undermine the conservation objectives of the Northeast Multispecies Fishery Management Plan. Therefore, pursuant to 5 U.S.C. 553(d)(3), the Assistant Administrator further finds good cause to waive the 30-day delayed effectiveness period for the reason stated above.

Authority: 16 U.S.C. 1801 et seq.

Dated: January 30, 2020.
Jennifer M. Wallace,
Acting Director, Office of Sustainable Fisheries, National Marine Fisheries Service.

[FR Doc. 2020-02175 Filed 2-3-20; 4:15 pm]

BILLING CODE 3510-22-P